DEPARTMENT OF DEFENSE

Department of the Army

Performance Review Boards Membership

AGENCY: Department of the Army, DoD.

ACTION: Notice.

SUMMARY: Notice is given of the names of members of a Performance Review Board for the Department of the Army.

EFFECTIVE DATE: October 28, 2002.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C. requires each agency to establish, in accordance with regulations, one or more Senior Executive Service performance review boards. The boards shall review and evaluate the initial appraisal of senior executives' performance by supervisors and make recommendations to the appointing authority or rating official relative to the performance of these executives.

The members of the Performance Review Board for the U.S. Army Consolidated Commands are:

1. MG John C. Atkinson, Deputy Commanding General (RC)(ARNG), First Army.

2. MG Raymond D. Barett Jr., DCSOPS&T.

3. Mr. Michael F. Bauman, Director TRADOC Analysis Center.

4. MG John R.S. Batiste, Commanding General, 1st Infantry Division.

5. Mr. Laurence H. Burger, Director, Space and Missile Defense Battle Lab.

6. MG Julian H. Burns, Acting Chief of Staff, FORSCOM.

7. Mr. William H. Campbell, III., Deputy Chief of Staff, Resource Management.

8. LTG Joseph M. Cosumano, Jr., Commanding General.

9. Mr. William J. Cooper, MTMC Transportation Engineering Agency.

10. Dr. Charles N. Davidson, Director, USA Nuclear and Chemical Agency.

11. LTG Michael L. Dodson, Deputy Commanding General.

12. MG James E. Donald, Deputy Chief of Staff, G1, FORSCOM.

13. Dr. Henry C. Dubin, Chief Scientist.

14. Mr. Thomas J. Edwards, Program Manager.

15. GEN Larry R. Ellis, Commanding General, FORSCOM.

16. Mr. Hugh M. Exton, Jr., Director, Installation Management Agency—SW.

17. BG Charles W. Fletcher, Jr., Commanding General, 3rd Corps Support Command.

18. MG Warren L. Freeman, Commander, DC-NG.

19. BG R. V. Geraci, Deputy Commanding General Operations/Deputy Commmanding General, Army Space Command.

20. BG Thomas R. Goedkoop, Assistant Deputy Chief of Staff, G3/5/7.

21. BG Elder Granger, ERMC Commanding General and U.S. Army Europe Command Surgeon.

22. Mr. Jess F. Granone, Director, Space and Missile Defense Technical Center.

23. LTG James R. Helmly, Commanding General, USARC.

24. BG Keith M. Huber, Deputy Commanding General (AC), First Army.

25. MG Robert C. Hughes, Deputy Commanding General (RC) (ARNG), First Army.

26. LTG Joseph R. Inge, Commanding General, First Army.

27. Mr. Robert J. Jefferis, Asst. Deputy Chief of Staff for Resource Management.

28. Ms. Vicky Jefferis, Deputy Chief of Staff, G-8.

29. MG Anthony R. Jones, Chief of Staff.

30. LTG Larry R. Jordan, Deputy Commanding General/Chief of Staff.

31. MG Terry E. Juskowiak, Commander, CASCOM.

32. BG James A. Kelley, Chief of Staff, USA Reserve Command.

33. Mr. J. Stephen Koons, Assistant Deputy Chief of Staff, G-4.

34. Dr. Michael J. Lavan, Director, Advanced Technology Directorate.

35. Mr. William R. Lucas, Jr., Deputy to the Commander, MTMC.

36. Mr. Mark L. Lumer, Principal Assistant Responsible for Contracting/Contracting & Acquisition Office.

37. Mr. Ronald G. Magee, Director of Operations, (TRADOC Analysis Center).

38. Mr. Maxie L. McFarland, Deputy Chief of Staff for Intelligence.

39. LTG David D. McKiernan, Commanding General, Third Army.

40. Mr. Richard A. McSeveney, Deputy to the Commander for Installation Support.

41. Mr. John C. Metzler Jr., Director of Cemetery Operations.

42. MG Daniel G. Mongeon, Deputy Chief of Staff, G-4.

43. MG William E. Mortensen, Commanding General, 21st Theater Support Command.

44. BG James H. Pillsbury, Deputy Chief of Staff, Logistics.

45. Mr. Jerry V. Proctor, Deputy for Futures.

46. BG Marilyn A. Quagliotti, Deputy Chief of Staff, Information Management & Commander, 5th Signal Command.

47. Mr. William C. Reeves, Jr., Director, Integration/Interoperability for Missile Defense and Assistant to the Deputy Commanding General, RDA.

48. Mr. William Rich, Deputy & Technical Director.

49. Mr. Rodney Robertson, Director, Sensors Directorate.

50. BG Richard J. Rowe, Jr., ADCSDEV.

51. MG Ricardo S. Sanchez, Commanding General, 1st Armored Division.

52. Mr. Robert E. Seger, ADCS for Training Policy, Plans & Programs.

53. MG Gary Speer, Deputy Chief of Staff, Operations.

54. MG Henry W. Stratman, Deputy Commanding General, Third Army.

55. MG Alan W. Thrasher, DCSDEV.

56. MG John M. Urias, Deputy Commanding General, Research, Development and Acquisition.

57. BG(P) Roy M. Umbarger, Deputy Commanding General (ARNG).

58. Ms. Donna K. Vargas, Director of Operations.

59. LTG William S. Wallace, Commander, V Corps.

60. BG Bennie E. Williams, Deputy Commanding General, 21st Theater Support Command.

61. BG Robert M. Williams, Commanding General, 7th Army Training Command.

62. MG Charles E. Wilson, Deputy Commanding General, USARC.

63. BG David T. Zabecki, Commander, 7th Army Reserve Command.

Luz D. Ortiz,
Army Federal Register Liaison Officer.

[FR Doc. 02-30836 Filed 12-4-02; 8:45 am]

BILLING CODE 3710-08-M